INTERNATIONAL TRADE COMMISSION

[Investigation 332-412]

The Year in Trade 1999

AGENCY: United States International Trade Commission.

ACTION: Institution of investigation.

EFFECTIVE DATE: March 21, 2000.

SUMMARY: Following receipt of a request on February 14, 2000, from the Committee on Ways and Means of the U.S. House of Representatives (the Committee), the Commission instituted investigation No. 332-412, The Year In Trade 1999, a report to the Congress and the President on the operation of the U.S. trade agreements program, under section 332(g) of the Tariff Act of 1930 (19 U.S.C. 1332(g)).

FOR FURTHER INFORMATION CONTACT: Information may be obtained from Thomas F. Jennings, Project Leader (202-205-3260), Office of Economics, U.S. International Trade Commission, Washington, DC, 20436. For information on the legal aspects of this investigation, contact William Gearhart of the Office of the General Counsel (202-205-3091). Hearing impaired individuals are advised that information on this matter can be obtained by contacting the TDD terminal on (202) 205-1810.

Background

The Committee requested the investigation and report pursuant to section 332(g) of the Tariff Act of 1930 and H.R. 3425 (enacted as part of Pub. L. 106-113 (Nov. 29, 1999)). Pursuant to Pub. L. 104-66 (Dec. 21, 1995), the requirement to submit such reports under section 163(c) was to terminate on December 21, 1999. Pub. L. 106-113 extended the requirement to May 15, 2000. As requested by the Committee, the Commission will provide a factual report on the operation of the trade agreements program and major trade-related activities for calendar year 1999. The report will be similar in scope to the annual report that the Commission has previously submitted under section 163(c) of the Trade Act of 1974 (19 U.S.C. 2213(c)).

The Commission plans to submit its report, The Year in Trade 1999: Operation of the Trade Agreements Program, in August 2000.

Written Submissions

The Commission has not scheduled a public hearing in connection with this investigation. However, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section § 201.6 of the Commission's rules of practice and procedure (19 CFR 201.6). All written submissions, except for confidential business information, will be made available in the Office of the Secretary of the Commission for inspection by interested parties. To be assured of consideration by the Commission, written statements relating to the Commission's report should be submitted to the Commission at the earliest practical date and should be received no later than the close of business on May 30, 2000. All submissions should be addressed to the Secretary, United States International Trade Commission, 500 E Street SW, Washington, DC 20436. The Commission's rules do not authorize filing submissions with the Secretary by facsimile or electronic means.

General information concerning the Commission may also be obtained by accessing its Internet server (http://www.usitc.gov).

List of Subjects:

WTO, OECD, FTAA, NAFTA, APEC, GSP, CBERA, ATPA exports, imports, Canada, European Union, Mexico, China, Japan, Taiwan, Korea, and Brazil.

Issued: March 21, 2000.
By order of the Commission.
Donna R. Koehnke,
Secretary.

[FR Doc. 00-7766 Filed 3-28-00; 8:45 am]

BILLING CODE 7020-02-P